FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 002357F.

Name: AAA Freight Forwarding Company, Inc.

Address: P.O. Box 399, Millbrae, CA 94030-0399.

Date Revoke: December 28, 2006.

Reason: Surrendered license voluntarily.

License Number: 008657N.

Name: AACCO.

Address: 841 Pioneer Avenue, Wilmington, CA 90744.

Date Revoke: February 25, 2007.

Reason: Failed to maintain a valid bond.

License Number: 003244F.

Name: Condor Overseas, Inc.

Address: P.O. Box 527405, Miami, FL 33152-7405.

Date Revoke: February 20, 2007.

Reason: Surrendered license voluntarily.

License Number: 018248N.

Name: ECAC, Incorporated.

Address: 1350 Ralph Avenue, Brooklyn, NY 11236.

Date Revoke: February 28, 2007.

Reason: Failed to maintain a valid bond.

License Number: 018368F.

Name: Fox Freight Forwarders, Inc.

Address: 5313 Collins Avenue, Suite 606, Miami, FL 33140.

Date Revoke: February 20, 2007.

Reason: Surrendered license voluntarily.

License Number: 007638N.

Name: Harbour-Link International, Inc.

Address: 11788 W. Sample Road, Suite 105, Coral Springs, FL 33065.

Date Revoke: February 20, 2007.

Reason: Surrendered license voluntarily.

License Number: 003937NF.

Name: International Transportation Experts Limited.

Address: 1801-H Crossbeam Dr., Charlotte, NC 28217.

Date Revoke: March 15, 2007.

Reason: Surrendered license voluntarily.

License Number: 020035NF.

Name: Latek Logistics USA Inc.

Address: One Cross Island Plaza, Ste. 229C, Rosedale, NY 11422.

Date Revoke: March 3, 2007.

Reason: Failed to maintain valid bonds.

License Number: 018483N.

Name: Laufer Air, Inc.

Address: 20 Vesey Street, Ste. 601, New York, NY 10007-2913.

Date Revoke: January 3, 2007.

Reason: Surrendered license voluntarily.

License Number: 003735F.

Name: Macro Trans Corporation.

Address: 7 Dey Street, Suite 1003, New York, NY 10007.

Date Revoke: February 20, 2007.

Reason: Surrendered license voluntarily.

License Number: 003950F.

Name: Ocean-5 Express Line, Inc.

Address: 520 E. Carson Plaza Court, Ste. 206, Carson, CA 90746.

Date Revoke: March 3, 2007.

Reason: Filed to maintain a valid bond.

License Number: 004445NF.

Name: Pacific Shipping Company.

Address: P.O. Box 94271, Seattle, WA 98124.

Date Revoke: December 26, 2006.

Reason: Surrendered license voluntarily.

License Number: 004589NF.

Name: Project Logistics International, Inc.

Address: 10251 S. Glasgow Place, Los Angeles, CA 90045.

Date Revoke: March 6, 2007.

Reason: Surrendered license voluntarily.

License Number: 018112N.

Name: Seamair Global Logistics, Inc.

Address: 2153 NW. 79th Avenue, Miami, FL 33122.

Date Revoke: March 4, 2007.

Reason: Failed to maintain a valid bond.

License Number: 018123F.

Name: Susie Gonzalez, Inc. dba F.R.I.E.N.D.S. Cargo Int'l.

Address: 8367 NW. 74th Street, Miami, FL 33166.

Date Revoke: March 2, 2007.

Reason: Failed to maintain a valid bond.

License Number: 015346N.

Name: United Cargo Service Inc.

Address: 182-09 149th Road, 2nd Floor, Jamaica, NY 11413.

Date Revoke: March 4, 2007.

Reason: Failed to maintain a valid bond.

Sandra L. Kusumoto,
Director, Bureau of Certification and Licensing.

[FR Doc. E7-5686 Filed 3-27-07; 8:45 am]

BILLING CODE 6730-01-P